DEPARTMENT OF ENERGY

Federal Energy Regulatory Commission

[Docket No. RP00-509-000]

Reliant Energy Gas Transmission Company; Notice of Proposed Changes in FERC Gas Tariff

September 6, 2000.

Take notice that on August 31, 2000, Reliant Energy Gas Transmission Company (REGT) tendered for filing as part of its FERC Gas Tariff, Fifth Revised Volume No. 1, the following tariff sheets to be effective March 27, 2000:

First Revised Sheet No. 398

First Revised Sheet No. 406

First Revised Sheet No. 412

First Revised Sheet No. 414

REGT states that the purpose of this filing is to remove tariff provisions inconsistent with the two-year waiver of the maximum rate ceiling for short-term capacity release transactions effected by Order No. 637.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims. htm (call 202-208-2222 for assistance).

David P. Boergers,
Secretary.

[FR Doc. 00-23286 Filed 9-11-00; 8:45 am]

BILLING CODE 6717-01-M